FEDERAL MINE SAFETY AND HEALTH REVIEW COMMISSION

Sunshine Act Meeting

June 13, 2003.

time and date: 10 a.m., Tuesday, June 24, 2003.

place: Hearing Room, 9th Floor, 601 New Jersey Avenue, NW., Washington, DC.

status: Open.

matters to be considered: The Commission will consider and act upon the following in open session:

Secretary of Labor v. Lodestar Energy, Inc., Docket Nos. KENT 2002-184 and KENT 2003-238. (Issues include whether the judge erred by failing to modify an order issued under section 104(d)(1) of the Federal Mine Safety and Health Act of 1977, 30 U.S.C. 814(d)(1), to a citation under section 104(a) of the Act.)

Any person attending this meeting who requires special accessibility features and/or auxiliary aids, such as sign language interpreters, must inform the Commission in advance of those needs. Subject to 29 CFR 2706.150(a)(3) and 2706.160(d).

for further information contact: Jean Ellen, (202) 434-9950/(202) 708-9300 for TDD Relay/1-800-877-8339 for toll free.

Jean H. Ellen,
Chief Docket Clerk.

[FR Doc. 03-16037 Filed 6-20-03; 12:30 am]

BILLING CODE 6735-01-M